DEPARTMENT OF ENERGY

Federal Energy Regulatory Commission

[Docket No. RP01-187-000]

Southern Natural Gas Company; Notice of Refund Report

December 19, 2000.

Take notice that on December 14, 2000, Southern Natural Gas Company (Southern Natural) tendered for filing a Refund Report.

Southern Natural states that as a final reconciliation pursuant to section 23.3 and Section 38.3 of the General Terms and Conditions of Southern Natural's Tariff, Seventh Revised Volume No, 1, the Refund Report sets forth ISS Revenues and Excess Storage Usage Charges to be refunded to Rate Schedule CSS customers. These sections have been terminated and removed from Southern's Tariff in accordance with Southern's Rate Case Settlement dated March 10, 2000 in Docket No. RP99-496.

Any person desiring to be heard or to protest said filing should file a motion to intervene or a protest with the Federal Energy Regulatory Commission, 888 First Street, NE, Washington, DC 20426, in accordance with sections 385.214 or 385.211 of the Commission's Rules and Regulations. All such motions or protests must be filed on or before December 26, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-222 for assistance). Comments and protests may be filed electronically via the internet in lieu of paper. See, 18 CFR 385.2001(a)(1;)(iii) and the instructions on the Commission's web site at ­http://www.ferc.fed.us/efi/doorbell.htm.

David P. Boergers,
Secretary.

[FR Doc. 00-32802 Filed 12-22-00; 8:45 am]

BILLING CODE 6717-01-M